OFFICE OF SCIENCE AND TECHNOLOGY POLICY

Identifying Sources of Agricultural Innovation

ACTION: Notice of Request for Information.

SUMMARY: The purpose of this Request for Information (RFI) is to discover new ideas that will spur innovation in agriculture and food systems and raise the profile of agricultural research. According to recent projections from The United Nations, the global population could reach 9.15 billion people by 2050. In the future, to meet the demand for food and other plant-derived products from a global population of this size, an increase of global agriculture production by as much as 70 percent will be required. More than four-fifths of the necessary production gains will need to occur on existing agricultural land through sustainable intensification that makes effective use of land and water resources. The Office of Science and Technology Policy (OSTP) therefore seeks information about programs, public or private, that are actively working to innovate agricultural science, as well as areas of need in research, education, and training. Input is sought from biological and agricultural stakeholders, including researchers in academia and industry, non-governmental organizations, scientific and professional societies, and other interested members of the public.

DATES: Responses must be received by December 4, 2015 to be considered.

ADDRESSES: You may submit responses by any of the following methods (webform is preferred):

• Webform: Use https://www.whitehouse.gov/webform/request-information-agricultural-innovation to submit responses.

• Mail: ATTN: Elizabeth Stulberg, Office of Science and Technology Policy, 1650 Pennsylvania Avenue NW., Washington, DC 20504. If submitting a response by mail, please allow sufficient time for mail processing.

Instructions: Response to this RFI is voluntary. Respondents need not reply to all questions; however, they should clearly indicate the number of each question to which they are responding. Responses must be unclassified and should not contain any information that might be considered proprietary, confidential, or personally identifying (such as home address or social security number). Responses to this RFI may be posted without change online. Please note that the U.S. Government will not pay for response preparation, or for the use of any information contained in the response.

FOR FURTHER INFORMATION CONTACT: Elizabeth Stulberg, estulberg@eop.ostp.gov, Office of Science and Technology Policy, Science Division.

SUPPLEMENTARY INFORMATION:

Information Requested

The purpose of this RFI is to solicit feedback from researchers in academia and industry, non-governmental organizations, scientific and professional societies, and other interested members of the public on the research, education, and training programs that are successfully working to push the cutting edge of agricultural technology and science and to identify the tools, techniques, and training needed to advance agricultural research beyond current roadblocks to innovation.

Questions

Respondents may wish to address the following questions with regard to the future of agriculture and food systems:

1. Over the next ten years, what are the most important research gaps that must be addressed to advance agricultural innovation?

2. What interdisciplinary agriculture and food programs successfully impact agricultural innovation?

3. What elementary, middle, and high school outreach programs are successful examples of introducing students to agricultural careers, and what are examples of effective ways to introduce agriculture to suburban and urban students interested in careers in science, technology, engineering, and math (STEM)?

4. How can colleges and universities recruit STEM undergraduates into agricultural disciplines? What effect, if any, do introductory courses that engage students in discovery-based research have for this purpose?

5. What resources are fundamental to addressing agricultural research needs?

6. What further training is needed among agricultural professionals to take advantage of advances in agriculture research?

7. Is there any additional information, not requested above, that you believe OSTP should consider in identifying crucial areas of agricultural research?

Ted Wackler,
Deputy Chief of Staff and Assistant Director.

[FR Doc. 2015-28289 Filed 11-4-15; 8:45 am]

BILLING CODE 3270-F6-P